DEPARTMENT OF HEALTH AND HUMAN SERVICES

Health Resources and Services Administration

Alliance for Innovation on Maternal Health—Community Care Initiative (AIM CCI)/Non-Competitive Supplement

AGENCY: Health Resources and Services Administration (HRSA), Department of Health and Human Services.

ACTION: Notice of non-competitive supplemental funding.

SUMMARY: HRSA is providing non-competitive supplemental funds in fiscal year (FY) 2024 to pilot test community-based methods and/or maternal safety bundles to address hypertension during pregnancy and the postpartum period to improve maternal health.

FOR FURTHER INFORMATION CONTACT: India Hinton, Public Health Analyst, Division of Healthy Start and Perinatal Services, Maternal and Child Health Bureau, HRSA, at IHinton@hrsa.gov and via phone at (301) 945-5235.

SUPPLEMENTARY INFORMATION: Intended Recipient(s) of the Award: Funding for the AIM CCI program recipient through a Non-Competitive Supplement to extend the project period by 12 months to pilot test community-based methods and/or maternal safety bundles targeting hypertension during pregnancy and the postpartum period to improve maternal health.

Amount of Competitive or Non-Competitive Award(s): One award up to $1,800,000.

Project Period: September 30, 2019-September 29, 2025.

Assistance Listing (CFDA) Number: 93.100.

Award Instrument: Non-competitive supplement to a cooperative agreement.

Authority: 42 U.S.C. 701(a)(2) (Social Security Act, title V, sec. 501(a)(2)).

Table 1—Recipients and Award Amounts
Grant No. | Award recipient name | City, State | Award amount
U7BMC33635 | National Healthy Start Association | Washington, DC | Up to $1,800,000.

Justification: The majority of pregnancy-related deaths occur following delivery. Improving health care outside of the labor and delivery setting is an important strategy for reducing pregnancy-related deaths. The planned supplemental award is within the scope of the most recent funding opportunity (HRSA-19-109) program purpose, which aims to: (1) support the development and implementation of non-hospital focused maternal safety bundles within community-based organizations and outpatient clinical settings across the United States and (2) build upon the foundational work of AIM by addressing preventable maternal mortality and severe maternal morbidity among pregnant and postpartum women outside of hospital and birthing facility settings.

HRSA will award a non-competitive supplement not to exceed $1.8 million to support the implementation of community-based activities, to include maternal safety bundles and supporting resources, with a focus on hypertension during pregnancy and the postpartum period. Lessons learned from the pilot will be used to strengthen and inform community-based approaches targeting hypertension in pregnant and postpartum people.

Carole Johnson,
Administrator.

[FR Doc. 2024-17576 Filed 8-7-24; 8:45 am]

BILLING CODE 4165-15-P